ENVIRONMENTAL PROTECTION AGENCY

[ER-FRL-9007-8]

Environmental Impacts Statements; Notice of Availability

Responsible Agency: Office of Federal Activities, General Information (202) 564-7146 or http://www.epa.gov/compliance/nepa/.

Weekly receipt of Environmental Impact Statements

Filed 02/11/2013 Through 02/15/2013

Pursuant to 40 CFR 1506.9.

Notice

Section 309(a) of the Clean Air Act requires that EPA make public its comments on EISs issued by other Federal agencies. EPA's comment letters on EISs are available at: http://www.epa.gov/compliance/nepa/eisdata.html.

EIS No. 20130034, Final EIS, BLM, WY, Lander Field Office Planning Area Project, Proposed Resource Management Plan, Review Period Ends: 03/25/2013, Contact: Kristen Yannone 307-332-8400.

EIS No. 20130035, Draft Supplement, FHWA, WA, SR-167 Puyallup to SR 509, SR 167 Puyallup River Bridge Replacement, Comment Period Ends: 04/08/2013, Contact: Dean Moberg 360-534-9344.

EIS No. 20130036, Final EIS, NNSA, NV, Site-Wide EIS—Continued Operation of the Department of Energy/National Nuclear Security Administration, Nevada National Security Site and Off-Site Location in Nevada, Review Period Ends: 03/25/2013, Contact: Linda Cohn 702-295-0077.

EIS No. 20130037, Draft EIS, FHWA, VA, Tier 1—Interstate 66 Corridor, from US Route 15 in Prince William County to Interstate 495 in Fairfax County, Comment Period Ends: 04/08/2013, Contact: John Simkins 202-366-5866.

EIS No. 20130038, Draft EIS, USACE, FL, Everglades Agricultural Area A-1 Shallow Flow Equalization Basin, Comment Period Ends: 04/08/2013, Contact: Alisa Zarbo 561-472-3506.

EIS No. 20130039, Final Supplement, USACE, KS, John Redmond Dam and Reservoir, Storage Reallocation, Review Period Ends: 03/26/2013, Contact: Patricia Newell 918-669-4937.

EIS No. 20130040, Draft EIS, USFS, CA, Whisky Ridge Ecological Restoration Project, Comment Period Ends: 04/08/2013, Contact: Aimee Smith 559-877-2218.

EIS No. 20130041, Draft EIS, USFS, AZ, Salt River Allotments Vegetative Management Project, Comment Period Ends: 04/08/2013, Contact: Debbie Cress 928-467-3220.

EIS No. 20130042, Draft Supplement, USFS, CA, Eldorado National Forest Travel Management, Comment Period Ends: 04/08/2013, Contact: Diana Erickson 530-621-5214.

Amended Notices

EIS No. 20120394, Draft EIS, USFS, OR, Tollgate Fuels Reduction Project, Umatilla National Forest, Walla Walla Ranger District, Comment Period Ends: 03/15/2013, Contact: Kempton Cooper 509-522-6009.

Revision to FR Notice Published 12/31/2012; Extending Comment Period to 03/15/2013.

EIS No. 20130033, Draft Supplement, USFS, CA, Southern California National Forests Land Management Plan Amendment, Comment Period Ends: 05/16/2013, Contact: Robert Hawkins 916-849-8037.

Revision to FR Notice Published 2/15/2013; Change Comment Period from 05/17/2013 to 5/16/2013.

Dated: February 19, 2013.
Cliff Rader,
Director, NEPA Compliance Division, Office of Federal Activities.

[FR Doc. 2013-04147 Filed 2-21-13; 8:45 am]

BILLING CODE 6560-50-P